DEPARTMENT OF COMMERCE

Foreign-Trade Zones Board

[Docket 39-2003]

Foreign-Trade Zone 82, Mobile, AL; Request for Manufacturing Authority (Agricultural Chemicals)

An application has been submitted to the Foreign-Trade Zones Board (the Board) by the City of Mobile (Alabama), grantee of FTZ 82, requesting authority on behalf of E.I. Dupont de Nemours and Company (Dupont) for the manufacture of crop protection products and related chemicals under FTZ procedures within proposed Site 2 of FTZ 82 (FTZ Doc. 19-2003; 68 FR 19498, 4/21/2003). The application was submitted pursuant to the provisions of the Foreign-Trade Zones Act, as amended (19 U.S.C. 81a-81u), and the regulations of the Board (15 CFR part 400). It was formally filed on August 7, 2003.

Dupont operates a 114-acre facility (200 full-time employees and 100 contract workers) within the proposed Site 2 of FTZ 82 for the manufacture of agricultural chemicals, including the insecticides marketed under the Avaunt, Steward, Asana, and Fortress trade names. The finished products would enter the United States under HTSUS headings 2907, 2914, 2916, 2917, 2918, 2920, 2921, 2924, 2926, 2928, 2930, 2932, 2933, 2934, 2935, 3808, or 3815, with duty rates ranging from duty-free to 7.8% ad valorem. Imported inputs are projected to comprise less than 20 percent of the value of finished products produced under FTZ procedures.

The company indicates that the following foreign inputs may be admitted under FTZ procedures: fulminates, cyanates and thiocyanates; cyclic hydorcarbons; halogenated derivatives of hydrocarbons; derivatives of hydrocarbons; acyclic alcohols and derivatives; cyclic alcohols and derivatives; phenols and phenol-alcohols, and their derivatives; ethers, ether-alcohols, ether-phenols, ether-alcohol-phenols, alcohol peroxides, ether peroxides, ketone peroxides, and their derivatives; aldehyde-function compounds and derivatives; ketone-function compounds and quinone-function compounds; saturated acyclic monocarboxylic acids and derivatives; unsaturated acyclic monocarboxylic acids and derivatives; polycarboxylic acids and derivatives; carboxylic acids and derivatives; phosphoric esters, salts, and derivatives; esters of other inorganic salts, and their salts and derivatives; amine function compounds; oxygen-function amino-compounds; quartenary ammonium salts and hydroxides, lecithins, and other phosphoaminolipids; carboxyamide-function compounds and amide-function compounds of carbonic acid; nitrile-function compounds; diazo-, azo-, or azoxy-compounds; organic derivatives of hydrazine or of hydroxylamine; organo-sulfur compounds; other organo-inorganic compounds; heterocyclic compounds with nitrogen hetero-atom(s) only; sulfonamides; oxidation inhibitors; insecticides, rodenticides, fungicides, herbicides, etc.; reaction initiators and accelerators; and chemical products and preparations not elsewhere specified (HTS heading 3824). Duty rates on these imported components currently range from duty-free to 7.8 percent.

This application requests authority to allow Dupont to conduct the activity under FTZ procedures, which would exempt the company from Customs duty payments on the foreign components used in export activity. On its domestic sales, the company would be able to choose the duty rate that applies to finished products for the foreign components noted above. The company would also be exempt from duty payments on foreign merchandise that becomes scrap/waste. The application indicates that the savings would help improve the facility's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade Zones Board, U.S. Department of Commerce, Franklin Court Building—Suite 4100W, 1099 14th St. NW., Washington, DC 20005; or

2. Submissions Via the U.S. Postal Service: Foreign-Trade Zones Board, U.S. Department of Commerce, FCB—Suite 4100W, 1401 Constitution Ave. NW., Washington, DC 20230.

The closing period for their receipt is October 17, 2003. Rebuttal comments in response to material submitted during the foregoing period may be submitted during the subsequent 15-day period to November 3, 2003.

A copy of the application and accompanying exhibits will be available for public inspection at the Office of the Foreign-Trade Zones Board's Executive Secretary at the first address listed above, and at the Office of the City Clerk, City of Mobile, 9th Floor, South Tower, Government Plaza, 205 Government Street, Mobile, AL 36602.

Dated: August 7, 2003.
Dennis Puccinelli,
Executive Secretary.

[FR Doc. 03-21061 Filed 8-15-03; 8:45 am]

BILLING CODE 3510-DS-P